DEPARTMENT OF AGRICULTURE

Forest Service

Federal Lands Recreation Enhancement Act

AGENCY: Forest Service, USDA.

ACTION: Notice of proposed fee hanges.

SUMMARY: The Chippewa National Forest is seeking public comments on a proposal that would change recreation fees to enhance campgrounds. Fee changes are being proposed at the Norway Beach Recreation Area, including an $8 amenity fee for those campsites with electricity. Fees are assessed based on the level of amenities and services provided, cost of operations and maintenance, and market assessment. These fees are proposed and will be determined upon further analysis and public comment. Funds from fees would be used for the continued operation and maintenance and improvements to the facilities within the recreation areas. An analysis of nearby recreation facilities with similar amenities shows that the proposed fees are reasonable and typical of similar sites in the area.

DATES: To ensure consideration of public comments, comments shall be submitted on or before September 30, 2019. If approved, new fees would be implemented in 2020.

ADDRESSES: Darla Lenz, Forest Supervisor, Chippewa National Forest, 200 Ash Avenue NW, Cass Lake, Minnesota 56633.

FOR FURTHER INFORMATION CONTACT: Christine Brown, Forest Recreation Program Manager, 218-335-8661. Information about the proposed fees can also be found on the Chippewa National Forest website: http://www.fs.usda.gov/chippewa.

SUPPLEMENTARY INFORMATION:

The Chippewa National Forest is proposing a change to recreation fees at the Norway Beach Recreation Area. Based on the proposed fee changes, Onegume Campground is proposed to change from $23 per night to $22 per night, and Stony Point Campground and Chippewa Loop in the Norway Beach Recreation Area are proposed to change from $26 per night to $22 per night plus an additional $8 amenity fee for sites with electrical hook up. Other fee changes proposed for the Norway Beach Recreation Area campgrounds include: The Cass Lake Loop is planned to decrease from $21 per night to $16 per night upon completion of changes including: Walk in access only and removal of the shower and flush toilet building. Norway Beach Loop will be increased from $21 per night to $22 plus $8 amenity fee for electrical hook ups, once completed. The Norway Beach group site fees are proposed to be $55 for up to 2 units and $85 per night for up to 3 units on site. The upgrades to Norway Beach Loop are slated to be complete before 2023. The Wanaki Loop fee will increase from $21 per night to $22 per night to be in line with the other campgrounds in the Norway Beach Recreation Area.

Revenue generated from the proposed fees would be used to make improvements, such as the addition of electrical hook ups as well as upgrades in existing hook ups to 50 amps; upgrading picnic tables, grills, fire rings, restroom facilities, signage; new septic systems in three campgrounds loops in Norway Beach Recreation Area and addition of group sites in the Norway Beach Loop.

Fees are assessed based on the level of amenities and services provided, cost of operations and maintenance, and market assessment. The fees are proposed and will be determined upon further analysis and public comment. An analysis of nearby recreation facilities with similar amenities shows that the proposed fees are reasonable and typical of similar sites in the area.

The Federal Recreation Lands Enhancement Act (Title VII, Pub. L. 108-447) requires the Secretary of Agriculture to publish a six month advance notice in the Federal Register whenever new recreation fee areas are proposed. Once public involvement is complete, these new fees will be reviewed by a Recreation Resource Advisory Committee prior to a final decision and implementation.

Dated: July 12, 2019.
Richard A. Cooksey,
Acting Associate Deputy Chief, National Forest System.

[FR Doc. 2019-16295 Filed 7-30-19; 8:45 am]

BILLING CODE 3411-15-P